DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of two individuals that have been placed on OFAC's Specially Designated Nationals and Blocked Persons List based on OFAC's determination that one or more applicable legal criteria were satisfied. All property and interests in property subject to U.S. jurisdiction of these individuals are blocked, and U.S. persons are generally prohibited from engaging in transactions with them.

DATES: See Supplementary Information section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The Specially Designated Nationals and Blocked Persons List and additional information concerning OFAC sanctions programs are available on OFAC's website (https://ofac.treasury.gov/).

Notice of OFAC Action

On February 20, 2024, OFAC determined that the property and interests in property subject to U.S. jurisdiction of the following individuals are blocked under the relevant sanctions authorities listed below.

Individuals

1. KONDRATIEV, Ivan Gennadievich (Cyrillic: КОНДРАТЬЕВ, Иван Геннадьевич) (a.k.a. KONDRATEV, Ivan; a.k.a. KONDRATYEV, Ivan; a.k.a. “@AL3XL7”; a.k.a. “@BASSTERLORD”; a.k.a. “@BASSTERLORD 0170742922”; a.k.a. “@SINNER6546”; a.k.a. “@SINNER911”; a.k.a. “BASSTERLORD”; a.k.a. “EDITOR”; a.k.a. “FISHEYE”; a.k.a. “INVESTORLIFE1”; a.k.a. “JACKROCK#3337”; a.k.a. “SIN998A”), Novomokovsk, Russia; DOB 08 Apr 1996; nationality Russia; Email Address sinner4iter@gmail.com; Gender Male; Digital Currency Address—XBT bc1q5jqgm7nvrhaw2rh2vk0dk8e4gg5g373g0vz07r; alt. Digital Currency Address—XBT 32pTjxTNi7snk8sodrgfmdKao3DEn1nVJM; alt. Digital Currency Address—XBT 15cRqR3TXS1JehBGWERuxFE8NhWZzfoeeU; alt. Digital Currency Address—XBT 1A7SKE2dQtezLktCY8peLsdAtkqxV9r1dC; alt. Digital Currency Address—XBT bc1q8ew45w2agdffrnwp6adt2gqrc9n4mkev9ns29c; alt. Digital Currency Address—XBT bc1qagp0gy58v8hqvw4p2wsphcxg067rrppp45hexr; alt. Digital Currency Address—XBT bc1qn6segn8km4nfdp9vueu6msfjsaxaqgun9h60n9; alt. Digital Currency Address—XBT bc1qx9upga7f09tsetqf78wa3qrmcjar58mkwz6ng6; Digital Currency Address—ETH 0xf3701f445b6bdafedbca97d1e477357839e4120d; Secondary sanctions risk: Ukraine-/Russia-Related Sanctions Regulations, 31 CFR 589.201; Passport 7019934211 (Russia) (individual) [CYBER2].

Designated pursuant to section l(a)(ii)(D) of Executive Order 13694 of April 1, 2015, “Blocking the Property of Certain Persons Engaging in Significant Malicious Cyber-Enabled Activities,” 80 FR 18077, 3 CFR, 2015 Comp., p. 297, as amended by Executive Order 13757 of December 28, 2016, “Taking Additional Steps to Address the National Emergency With Respect to Significant Malicious Cyber-Enabled Activities,” 82 FR 1, 3 CFR, 2016 Comp., p. 659 (E.O. 13694, as amended) for being responsible for or complicit in, or having engaged in, directly or indirectly, an activity described in section 1(a)(ii) of E.O. 13694, as amended.

2. SUNGATOV, Artur Ravilevich, Kazan, Tatarstan Republic, Russia; DOB 16 Jan 1990; POB Kazan, Russia; nationality Russia; Email Address tkmegap@gmail.com; alt. Email Address imailo@ya.ru; alt. Email Address asungatov@gmail.com; alt. Email Address morozofkent@gmail.com; Gender Male; Digital Currency Address—XBT 18gaXypKj9M23S2zT9qZfL9iPbLFM372Q5; Secondary sanctions risk: Ukraine-/Russia-Related Sanctions Regulations, 31 CFR 589.201; Passport 751412830 (Russia); alt. Passport 9209857353 (Russia) (individual) [CYBER2].

Designated pursuant to section l(a)(ii)(D) of E.O. 13694, as amended, for being responsible for or complicit in, or having engaged in, directly or indirectly, an activity described in section 1(a)(ii) of E.O. 13694, as amended.

Dated: February 20, 2024.
Bradley T. Smith,
Director, Office of Foreign Assets Control, U.S. Department of the Treasury.

[FR Doc. 2024-03711 Filed 2-22-24; 8:45 am]

BILLING CODE 4810-AL-P